DEPARTMENT OF COMMERCE

National Oceanic and Atmospheric Administration

RIN 0648-XS35

Marine Mammals; File No. 14450

AGENCY: National Marine Fisheries Service (NMFS), National Oceanic and Atmospheric Administration (NOAA), Commerce.

ACTION: Notice; issuance of permit amendment.

SUMMARY: Notice is hereby given that a major amendment to Permit No. 14450-01 has been issued to the National Marine Fisheries Service's Southeast Fisheries Science Center (SEFSC), 75 Virginia Beach Drive, Miami, FL 33149 [Principal Investigator: Dr. Keith Mullin].

ADDRESSES: The permit amendment and related documents are available for review upon written request or by appointment in the following offices:

Permits and Conservation Division, Office of Protected Resources, NMFS, 1315 East-West Highway, Room 13705, Silver Spring, MD 20910; phone (301) 427-8401; fax (301) 713-0376;

FOR FURTHER INFORMATION CONTACT: Jennifer Skidmore or Amy Hapeman, (301) 427-8401.

SUPPLEMENTARY INFORMATION: On March 14, 2014, notice was published in the Federal Register (79 FR 14484) that a request for an amendment Permit No. 14450 to conduct research on cetaceans had been submitted by the above-named applicant. The requested permit amendment has been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The permit amendment authorizes takes by harassment during satellite tagging to support NMFS stock assessment research on ESA-listed large whales that occur in U.S. and international waters of the western North Atlantic. Up to four attempts may be made to attach a tag to an animal. Directed satellite tagging efforts may be conducted to tag 20 sperm whales and 5 North Atlantic right whales. Opportunistic tagging would occur of 10 fin, 5 blue, 5 sei, and 10 humpback whales when encountered during other SEFSC assessment surveys. The permit expires on February 28, 2019.

In compliance with the National Environmental Policy Act of 1969 (42 U.S.C. 4321 et seq.), a final determination has been made that the activity proposed is categorically excluded from the requirement to prepare an environmental assessment or environmental impact statement.

As required by the ESA, issuance of this permit was based on a finding that such permit: (1) Was applied for in good faith; (2) will not operate to the disadvantage of such endangered species; and (3) is consistent with the purposes and policies set forth in section 2 of the ESA.

Dated: May 28, 2014.
Tammy C. Adams,
Acting Chief, Permits and Conservation Division, Office of Protected Resources, National Marine Fisheries Service.

[FR Doc. 2014-12680 Filed 5-30-14; 8:45 am]

BILLING CODE 3510-22-P